DEPARTMENT OF ENERGY

Federal Energy Regulatory Commission

[Docket Nos. EL16-49-000, ER18-1314-000, ER18-1314-001, EL18-178-000 (Consolidated), EL18-169-000]

Notice of Designation of Commission Staff as Non-Decisional

Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC and Panda Power Generation Infrastructure Fund, LLC

v.

PJM Interconnection, L.L.C., PJM Interconnection, L.L.C., PJM Interconnection, L.L.C., CPV Power Holdings, L.P., Calpine Corporation and Eastern Generation, LLC

v.

PJM Interconnection, L.L.C.

With respect to an order issued by the Commission on June 29, 2018,¹ the following staff of the Office of the General Counsel, the Office of Energy Market Regulation, and the Office of Energy Policy and Innovation are hereby designated as non-decisional in deliberations by the Commission in these dockets. Accordingly, pursuant to 18 CFR 385.2202 (2017), they will not serve as advisors to the Commission or take part in the Commission's review of any offer of settlement. Likewise, as non-decisional staff, pursuant to 18 CFR 385.2201 (2017), they are prohibited from communicating with advisory staff concerning any deliberations in these dockets.

¹ Calpine Corp, et al., 163 FERC ¶ 61,236 (2018).

Matthew Estes

Kristopher Fitzpatrick

Emma Nicholson

Dated: July 17, 2018.
Kimberly D. Bose,
Secretary.

[FR Doc. 2018-15699 Filed 7-20-18; 8:45 am]

BILLING CODE 6717-01-P